DEPARTMENT OF HEALTH AND HUMAN SERVICES

Health Resources and Services Administration

Meetings of the National Advisory Council on Migrant Health

AGENCY: Health Resources and Services Administration (HRSA), Department of Health and Human Services (HHS).

ACTION: Notice.

SUMMARY: In accordance with the Federal Advisory Committee Act, this notice announces that the National Advisory Council on Migrant Health (NACMH) will hold two public meetings for the 2020 calendar year (CY). Information about NACMH, and agendas for these meetings can be found on the NACMH website at: https://bphc.hrsa.gov/qualityimprovement/strategicpartnerships/nacmh/index.html.

DATES:

• May 5-6, 2020; 9:00 a.m. to 5:00 p.m. Mountain Time (MT).

• November 4-5, 2020; 9:00 a.m. to 5:00 p.m. Eastern Time (ET).

ADDRESSES: The May meeting will be held in-person at Courtyard Boulder Longmont, 1410 Dry Creek Drive, Longmont, Colorado 80503. The November meeting will be held in-person at 5600 Fishers Lane, 5W07, Rockville, Maryland 20857.

Instructions for joining the meetings in-person will be posted on the NACMH website 30 business days before the date of the meeting. For meeting information updates, go to the NACMH website at: https://bphc.hrsa.gov/qualityimprovement/strategicpartnerships/nacmh/index.html.

FOR FURTHER INFORMATION CONTACT: Esther Paul, NACMH Designated Federal Officer (DFO), Strategic Initiatives and Planning Division, Office of Policy and Program Development, Bureau of Primary Health Care, HRSA, 5600 Fishers Lane, 16N38B, Rockville, Maryland 20857; 301-594-4300; or epaul@hrsa.gov.

SUPPLEMENTARY INFORMATION: NACMH provides advice and recommendations to the Secretary of HHS on policy, program development, and other matters of significance concerning the activities under section 217 of the Public Health Service (PHS) Act, as amended (42 U.S.C. 218). Specifically, NACMH provides recommendations concerning policy related to the organization, operation, selection, and funding of migrant health centers, and other entities under grants and contracts under section 330 of the PHS Act (42 U.S.C. 254b). NACMH meets twice each calendar year, or at the discretion of the DFO in consultation with the NACMH Chair.

Since priorities dictate meeting times, be advised that times and agenda items are subject to change. For CY 2020 meetings, agenda items may include, but are not limited to, topics and issues related to migratory and seasonal agricultural worker health.

Refer to the NACMH website listed above for all current and updated information concerning the CY 2020 NACMH meetings, including draft agendas and meeting materials, which will be posted 30 calendar days before the meeting.

Members of the public will have the opportunity to provide comments. Public participants may submit written statements in advance of the scheduled meetings. Oral comments will be honored in the order they are requested and may be limited as time allows. Requests to submit a written statement or make oral comments to the NACMH should be sent to Esther Paul using the contact information above at least 5 business days before the meeting date.

Individuals who need special assistance or another reasonable accommodation should notify Esther Paul using the contact information listed above at least 10 business days before the meeting(s) they wish to attend. Since the November 2020 meeting will occur in a federal government building, attendees must go through a security check to enter the building. Non-U.S. citizen attendees must notify HRSA of their planned attendance at least 20 business days prior to the meeting in order to facilitate their entry into the building. All attendees are required to present government-issued identification prior to entry.

Maria G. Button,
Director, Executive Secretariat.

[FR Doc. 2020-04169 Filed 2-28-20; 8:45 am]

BILLING CODE 4165-15-P